ENVIRONMENTAL PROTECTION AGENCY

[EPA-HQ-OPP-2018-0258; FRL-9993-59]

RIN 2070-ZA21

Pesticides; Draft Guidance for Pesticide Registrants on Plant Regulator Label Claims, Including Plant Biostimulants; Extension of Comment Period

AGENCY: Environmental Protection Agency (EPA).

ACTION: Notice, extension of comment period.

SUMMARY: In response to public requests for an extension of the comment period, EPA is extending the comment period for the draft guidance document that was released for public comment in the Federal Register of March 27, 2019, for an additional 60 days.

DATES: Comments, identified by docket identification (ID) number EPA-HQ-OPP-2018-0258, must be received on or before July 28, 2019.

ADDRESSES: Follow the detailed instructions provided under ADDRESSES in the Federal Register document of March 27, 2019 (84 FR 11538) (FRL-9986-27).

FOR FURTHER INFORMATION CONTACT: For general information contact: Prasad Chumble, Field and External Affairs Division (7506P), Office of Pesticide Programs, Environmental Protection Agency, 1200 Pennsylvania Ave. NW, Washington, DC 20460-0001; telephone number: (703) 347-8367; email address: chumble.prasad@epa.gov.

For technical information contact: Russell Jones, Biopesticides and Pollution Prevention Division (7511P), Office of Pesticide Programs, Environmental Protection Agency, 1200 Pennsylvania Ave. NW, Washington, DC 20460-0001; telephone number: (703)308-5071; email address: jones.russell@epa.gov.

SUPPLEMENTARY INFORMATION: This document extends the public comment period established in the Federal Register of March 27, 2019 (84 FR 11538) (FRL-9986-27). In that document, EPA announced the availability of and sought public comment on a draft guidance document entitled “Guidance for Plant Regulator Label Claims, Including Plant Biostimulants.” EPA is hereby extending the comment period that was set to end on May 28, 2019 to July 28, 2019.

To submit comments, or access the docket, please follow the detailed instructions provided under ADDRESSES in the Federal Register document of March 27, 2019. If you have questions, consult the person listed under FOR FURTHER INFORMATION CONTACT.

Authority: 7 U.S.C. 136 et seq.

Dated: May 8, 2019.
Alexandra Dapolito Dunn,
Assistant Administrator, Office of Chemical Safety and Pollution Prevention.

[FR Doc. 2019-10071 Filed 5-14-19; 8:45 am]

BILLING CODE 6560-50-P